DEPARTMENT OF THE INTERIOR

National Park Service

Notice of Inventory Completion: The Colorado College, Colorado Springs, CO

AGENCY: National Park Service, Interior.

ACTION: Notice.

Notice is here given in accordance with the Native American Graves Protection and Repatriation Act (NAGPRA), 25 U.S.C. 3003, of the completion of an inventory of human remains in the possession of The Colorado College, Colorado Springs, CO. The human remains were removed from Rio Grande County and Saguache Counties, CO.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by The Colorado College professional staff in consultation with representatives of the Apache Tribe of Oklahoma; Fort Sill Apache Tribe of Oklahoma; Hopi Tribe of Arizona; Jicarilla Apache Nation, New Mexico; Mescalero Apache Tribe of the Mescalero Reservation, New Mexico; Navajo Nation, Arizona, New Mexico & Utah; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of San Juan, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; Southern Ute Indian Tribe of the Southern Ute Reservation, Colorado; Ute Indian Tribe of the Uintah & Ouray Reservation, Utah; Ute Mountain Tribe of the Ute Mountain Reservation, Colorado, New Mexico & Utah; Ysleta del Sur Pueblo of Texas; and Zuni Tribe of the Zuni Reservation, New Mexico.

On March 11, 1981, human remains representing one individual were discovered during a construction project 1.2 miles east of Del Norte, Rio Grande County, CO. The county coroner determined that the human remains were not of forensic significance and transferred the human remains to The Colorado College. The human remains were curated from 1981 until 1989 in the Anthropology Department Archaeology Laboratory in Palmer Hall. In 1989 the human remains were moved to the Biological Anthropology Classroom/Laboratory of Barnes Science Center. No known individual was identified. No associated funerary objects are present.

On September 2, 1981, human remains representing two individuals were discovered in Saguache County, CO. The county coroner determined that the human remains were not of forensic significance and transferred the human remains to the State archeologist, who transferred the human remains to The Colorado College. The human remains were curated from 1981 until 1989 in the Anthropology Department Archaeology Laboratory in Palmer Hall. In 1989, the human remains were moved to the Biological Anthropology Classroom/Laboratory of Barnes Science Center. No known individuals were identified. No associated funerary objects are present.

A physical anthropological assessment of the human remains resulted in a determination that the individuals are most likely Native American based on cranial morphology. The Colorado Office of Archaeology and Historic Preservation map “Estimated Tribal Territories in Colorado During the Late Nineteenth Century,” establishes the presence of the Apache, Navajo, Pueblo groups, and the Ute in Rio Grande and Saguache Counties at that time. The Southern Ute Indian tribe map “Original Ute Domain” includes Rio Grande County and Saguache County as a part of the original domain of the Ute; another map of the Southern Ute Indian tribe “Ute Territory of 1868” includes these counties in Southern Ute territory. The map “Early Indian Tribes, Culture Areas, and Linguistic Stocks” (W. Sturtevant, Smithsonian Institution, 1967) shows the presence of the Ute and the Jicarilla Apache in Rio Grande and Saguache Counties at the time of contact with Europeans. Tribal oral tradition supports the presence of the Eastern Apache, Ute, Puebloans, and Navajo peoples in Rio Grande and Saguache Counties.

Officials of The Colorado College have determined that, pursuant to 25 U.S.C. 3001 (9-10), the human remains described above represent the physical remains of three individuals of Native American ancestry. Officials of The Colorado College also have determined that, pursuant to 25 U.S.C. 3001 (2), a relationship of shared group identity cannot reasonably be traced between the human remains and any present-day Indian tribe.

According to the Native American Graves Protection and Repatriation Review Committee's charter, the Review Committee is responsible for recommending specific actions for disposition of culturally unidentifiable human remains. In May 2004, the Southern Ute Indian Tribe of the Southern Ute Reservation, Colorado submitted a request to The Colorado College for repatriation of the culturally unidentifiable human remains. In August 2004, The Colorado College requested that the Review Committee make a recommendation regarding the disposition of the remains of three culturally unidentifiable human remains to the Southern Ute Indian Tribe of the Southern Ute Reservation, Colorado and to any other Indian tribe that also requested repatriation prior to the Review Committee meeting. The Review Committee considered the proposal at its September 2004 meeting in Washington, DC, and recommended repatriation of the human remains to the Southern Ute Indian Tribe of the Southern Ute Reservation, Colorado. A September 21, 2004, letter from the Designated Federal Officer, on behalf of the interim chair of the Review Committee, to The Colorado College transmitted the Review Committee's recommendation that the museum repatriate the culturally unidentifiable human remains to the Southern Ute Indian Tribe of the Southern Ute Reservation, Colorado.

Representatives of any other Indian tribe that believes itself to be culturally affiliated with the human remains should contact Joyce Eastburg, Legal Assistant, The Colorado College, 14 East Cache La Poudre Street, Colorado Springs, Colorado 80903, telephone (719) 389-6703, before January 21, 2005. Repatriation of the human remains to the Southern Ute Indian Tribe of the Southern Ute Indian Reservation, Colorado may proceed after that date if no additional claimants come forward.

The Colorado College is responsible for notifying the Apache Tribe of Oklahoma; Fort Sill Apache Tribe of Oklahoma; Hopi Tribe of Arizona; Jicarilla Apache Nation, New Mexico; Mescalero Apache Tribe of the Mescalero Reservation, New Mexico; Navajo Nation, Arizona, New Mexico & Utah; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of San Juan, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; Southern Ute Indian Tribe of the Southern Ute Reservation, Colorado; Ute Indian Tribe of the Uintah & Ouray Reservation, Utah; Ute Mountain Tribe of the Ute Mountain Reservation, Colorado, New Mexico & Utah; Ysleta del Sur Pueblo of Texas; and Zuni Tribe of the Zuni Reservation, New Mexico that this notice has been published.

Dated: November 12, 2004
Sherry Hutt,
Manager, National NAGPRA Program.

[FR Doc. 04-28005 Filed 12-21-04; 8:45 am]

BILLING CODE 4312-50-S